DEPARTMENT OF COMMERCE

National Oceanic and Atmospheric Administration

50 CFR Part 679

[Docket No.:150904827-5827-01]

RIN 0648-BF36

Fisheries of the Exclusive Economic Zone Off of Alaska; Observer Coverage Requirements for Small Catcher/Processors in the Gulf of Alaska and Bering Sea and Aleutian Islands Groundfish Fisheries

Correction

In proposed rule document 2015-32742 appearing on pages 81262-81271 in the issue of Tuesday, December 29, 2015 make the following corrections:

1. On page 81263, in the first column, in the second paragraph, beginning on the eighth line, “February 29, 2016” should read “December 17, 2015”.

2. In the same paragraph, in the 10th line, “February 29, 2016” should read “February 16, 2016”.

3. In the same paragraph, in the 13th line, “February 29, 2016” should read “February 16, 2016”.

[FR Doc. C1-2015-32742 Filed 1-21-16; 8:45 am]

BILLING CODE1505-01-D